DEPARTMENT OF THE INTERIOR

Office of Surface Mining Reclamation and Enforcement

[Docket ID: OSM-2010-0018; OSM-2010-0021; OSM-2015-0002 S1D1 SS08011000SX064A000156S180110; S2D2SS08011000SX064A00015X501520]

Stream Protection Rule

AGENCY: Office of Surface Mining Reclamation and Enforcement, Department of the Interior.

ACTION: Notice, extension of comment period.

SUMMARY: We, the Office of Surface Mining Reclamation and Enforcement (OSMRE), are announcing extension of the comment period on the proposed stream protection rule and the draft environmental impact statement (DEIS) and draft regulatory impact analysis (RIA) prepared in connection with that rule.

DATES: We will accept electronic or written comments on the proposed rule, DEIS, and RIA that we receive on or before October 26, 2015.

ADDRESSES: You may submit comments by any of the following methods:

Federal eRulemaking Portal: http://www.regulations.gov. The Docket ID for the proposed rule is OSM-2010-0018, while the Docket ID for the draft environmental impact statement is OSM-2010-0021 and the docket ID for the draft regulatory impact analysis is OSM-2015-0002. Please follow the online instructions for submitting comments.

Mail/Hand-Delivery/Courier: Office of Surface Mining Reclamation and Enforcement, Administrative Record, Room 252 SIB, 1951 Constitution Avenue NW., Washington, DC 20240. Please include the appropriate Docket ID: OSM-2010-0018 for the proposed rule, OSM-2010-0021 for the draft environmental impact statement, or OSM-2015-0002 for the draft regulatory impact analysis.

If you wish to comment on the information collection aspects of this proposed rule, submit your comments to the Department of the Interior Desk Officer at OMB—OIRA, via email at OIRA_Submission@omb.eop.gov, or via facsimile at (202) 395-5806. Also, send a copy of your comments to John A. Trelease, Office of Surface Mining Reclamation and Enforcement, 1951 Constitution Avenue NW., Room 203 SIB, Washington, DC 20240, or via email at jtrelease@osmre.gov.

FOR FURTHER INFORMATION CONTACT: For the proposed rule: Dennis G. Rice, Office of Surface Mining Reclamation and Enforcement, U.S. Department of the Interior, 1951 Constitution Avenue NW., Washington, DC 20240. Telephone: 202-208-2829.

For the draft environmental impact statement: Robin T. Ferguson, Office of Surface Mining Reclamation and Enforcement, U.S. Department of the Interior, 1951 Constitution Avenue NW., Washington, DC 20240. Telephone: 202-208-2802.

For the draft regulatory impact analysis: Mark Gehlhar, Office of Surface Mining Reclamation and Enforcement, U.S. Department of the Interior, 1951 Constitution Avenue NW., Washington, DC 20240. Telephone: 202-208-2716.

SUPPLEMENTARY INFORMATION:

On July 16, 2015, we announced that the proposed rule, DEIS, and draft RIA were available for review at www.regulations.gov, on our Web site (www.osmre.gov), and at selected OSMRE offices.

On July 17, 2015, we published a notice in the Federal Register announcing the availability of the DEIS for public review. See 80 FR 42535-42536. The notice reiterated that the DEIS was available for review at www.regulations.gov, www.osmre.gov, and the OSMRE offices listed in the notice. The comment period for the DEIS was scheduled to close on September 15, 2015.

On July 27, 2015, we published the proposed stream protection rule in the Federal Register. See 80 FR 44436-44698. That document reiterated that the proposed rule, DEIS, and draft RIA were available for review at www.regulations.gov, www.osmre.gov, and the OSMRE offices listed in Part XII of that document (80 FR 44580). The comment period for the proposed rule and draft RIA was scheduled to close on September 25, 2015.

In response to requests for additional time to review and prepare comments on all three documents, we are extending the comment period for the proposed rule, DEIS, and RIA through October 26, 2015. Please follow the instructions for submission of comments in Part XII of the proposed rule. See 80 FR 44580 (Jul. 27, 2015).

Dated: September 3, 2015.
Yolande Norman,
Acting Assistant Director, Program Support.

[FR Doc. 2015-22878 Filed 9-9-15; 8:45 am]

BILLING CODE 4310-05-P